ENVIRONMENTAL PROTECTION AGENCY

40 CFR Part 180

[EPA-HQ-OPP-2009-0099; FRL-8428-6]

Sodium Alkyl Naphthalenesulfonate; Exemption from the Requirement of a Tolerance

AGENCY: Environmental Protection Agency (EPA).

ACTION: Final rule.

SUMMARY: This regulation establishes an exemption from the requirement of a tolerance for residues of sodium alkyl naphthalenesulfonate, herein referred to in this document as SANS, when used as an inert ingredient at a maximum of 30% by weight in pesticide formulations for pre-harvest and post-harvest uses, as well as, for application to animals. The Joint Inerts Task Force (JITF), Cluster Support Team Number 10, submitted a petition to EPA under the Federal Food, Drug, and Cosmetic Act (FFDCA), requesting an exemption from the requirement of a tolerance. This regulation eliminates the need to establish a maximum permissible level for residues of SANS.

DATES: This regulation is effective August 5, 2009. Objections and requests for hearings must be received on or before October 5, 2009, and must be filed in accordance with the instructions provided in 40 CFR part 178 (see also Unit I.C. of the SUPPLEMENTARY INFORMATION).

ADDRESSES: EPA has established a docket for this action under docket identification (ID) number EPA-HQ-OPP-2009-0099. All documents in the docket are listed in the docket index available at http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Kerry Leifer, Registration Division (7505P), Office of Pesticide Programs, Environmental Protection Agency, 1200 Pennsylvania Ave., NW., Washington, DC 20460-0001; telephone number: (703) 308-8811; e-mail address: leifer.kerry@epa.gov.

SUPPLEMENTARY INFORMATION:

I. General Information

A. Does this Action Apply to Me?

You may be potentially affected by this action if you are an agricultural producer, food manufacturer, or pesticide manufacturer. Potentially affected entities may include, but are not limited to those engaged in the following activities:

• Crop production (NAICS code 111).

• Animal production (NAICS code 112).

• Food manufacturing (NAICS code 311).

• Pesticide manufacturing (NAICS code 32532).

This listing is not intended to be exhaustive, but rather to provide a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Access Electronic Copies of this Document?

In addition to accessing electronically available documents at http://www.regulations.gov, you may access this Federal Register document electronically through the EPA Internet under the “Federal Register” listings at http://www.epa.gov/fedrgstr. You may also access a frequently updated electronic version of EPA's tolerance regulations at 40 CFR part 180 through the Government Printing Office's e-CFR cite at http://www.gpoaccess.gov/ecfr. To access the OPPTS Harmonized Guidelines referenced in this document, go directly to the guidelines at http://www.epa.gpo/opptsfrs/home/guidelin.htm.

C. Can I File an Objection or Hearing Request?

Under section 408(g) of FFDCA, 21 U.S.C. 346a, any person may file an objection to any aspect of this regulation and may also request a hearing on those objections. You must file your objection or request a hearing on this regulation in accordance with the instructions provided in 40 CFR part 178. To ensure proper receipt by EPA, you must identify docket ID number EPA-HQ-OPP-2009-0099 in the subject line on the first page of your submission. All requests must be in writing, and must be mailed or delivered to the Hearing Clerk as required by 40 CFR part 178 on or October 5, 2009.

In addition to filing an objection or hearing request with the Hearing Clerk as described in 40 CFR part 178, please submit a copy of the filing that does not contain any CBI for inclusion in the public docket that is described in ADDRESSES. Information not marked confidential pursuant to 40 CFR part 2 may be disclosed publicly by EPA without prior notice. Submit this copy, identified by docket ID number EPA-HQ-OPP-2009-0099, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

II. Background

In the Federal Register of April 15, 2009 (74 FR 17487) (FRL-8409-7), EPA issued a notice pursuant to section 408(d)(3) of FFDCA, 21 U.S.C. 346a(d)(3), announcing the filing of a pesticide petition (PP 9E7524) by The Joint Inerts Task Force (JITF), Cluster Support Team 10 (CST 10), c/o CropLife America, 1156 15th Street, NW., Suite 400, Washington, DC 20005. The petition requested that 40 CFR 180.910 and 40 CFR 180.930 be amended by establishing exemptions from the requirement of a tolerance for residues of the inert ingredient sodium alkyl naphthalenesulfonate (SANS). That notice referenced a summary of the petition prepared by JITF (CST 10), the petitioner, which is available to the public in the docket, http://www.regulations.gov. There were no comments received in response to the notice of filing.

Based upon review of the data supporting the petition, EPA has modified the exemptions requested by adding a use limitation of not more than 30% by weight in pesticide formulations applied pre-and post-harvest and in pesticide formulations applied to animals. This limitation is based on the Agency's risk assessment which can be found at http://www.regulations.gov in document Sodium Alkyl Naphthalenesulfonate (SANS) - JITF CST 10 Inert Ingredients). Human Health Risk Assessment to Support Proposed Exemption from the Requirement of a Tolerance When Used as Inert Ingredients in Pesticide Formulations in docket ID number EPA-HQ-OPP-2009-0099.

This petition was submitted in response to a final rule of August 9, 2006, (71 FR 45415) (FRL-8084-1) in which the Agency revoked, under section 408(e)(1) of the Federal Food, Drug, and Cosmetic Act (FFDCA), the existing exemptions from the requirement of a tolerance for residues of certain inert ingredients because of insufficient data to make the determination of safety required by section 408(b)(2) of FFDCA. The expiration date for the tolerance exemptions subject to revocation was August 9, 2008, which was later extended to August 9, 2009 by a final rule published in the Federal Register of August 4, 2008 (73 FR 45312) (FRL-8372-7) to allow for data to be submitted to support the establishment of tolerance exemptions for these inert ingredients prior to the effective date of the tolerance exemption revocation.

III. Inert Ingredient Definition

Inert ingredients are all ingredients that are not active ingredients as defined in 40 CFR 153.125 and include, but are not limited to, the following types of ingredients (except when they have a pesticidal efficacy of their own): Solvents such as alcohols and hydrocarbons; surfactants such as polyoxyethylene polymers and fatty acids; carriers such as clay and diatomaceous earth; thickeners such as carrageenan and modified cellulose; wetting, spreading, and dispersing agents; propellants in aerosol dispensers; microencapsulating agents; and emulsifiers. The term “inert” is not intended to imply nontoxicity; the ingredient may or may not be chemically active. Generally, EPA has exempted inert ingredients from the requirement of a tolerance based on the low toxicity of the individual inert ingredients.

IV. Aggregate Risk Assessment and Determination of Safety

Section 408(b)(2)(A)(i) of FFDCA allows EPA to establish an exemption from the requirement of a tolerance (the legal limit for a pesticide chemical residue in or on a food) only if EPA determines that the tolerance is “safe.” Section 408(b)(2)(A)(ii) of FFDCA defines “safe” to mean that “there is a reasonable certainty that no harm will result from aggregate exposure to the pesticide chemical residue, including all anticipated dietary exposures and all other exposures for which there is reliable information.” This includes exposure through drinking water and in residential settings, but does not include occupational exposure. Section 408(b)(2)(C) of FFDCA requires EPA to give special consideration to exposure of infants and children to the pesticide chemical residue in establishing a tolerance and to “ensure that there is a reasonable certainty that no harm will result to infants and children from aggregate exposure to the pesticide chemical residue. . . .”

EPA performs a number of analyses to determine the risks from aggregate exposure to pesticide residues. First, EPA determines the toxicity of pesticides. Second, EPA examines exposure to the pesticide through food, drinking water, and through other exposures that occur as a result of pesticide use in residential settings.

Consistent with section 408(b)(2)(D) of FFDCA, and the factors specified in section 408(b)(2)(D) of FFDCA, EPA has reviewed the available scientific data and other relevant information in support of this action. EPA has sufficient data to assess the hazards of and to make a determination on aggregate exposure for the petitioned-for exemption from the requirement of a tolerance for residues of SANS, when used as an inert ingredient in pesticide formulations for pre-harvest and post-harvest uses, as well as for application to animals provided that the concentration of the SANS inerts is limited to no more than 30% by weight in pesticide formulations. EPA's assessment of exposures and risks associated with establishing tolerances follows.

A. Toxicological Profile

EPA has evaluated the available toxicity data and considered its validity, completeness, and reliability as well as the relationship of the results of the studies to human risk. EPA has also considered available information concerning the variability of the sensitivities of major identifiable subgroups of consumers, including infants and children.

The representative test compounds for the SANS cluster group include (1) an aqueous mixture containing 80% 3-butyl-naphthalene- 1 sulfonate (CAS Reg. No. 25638-17-9) and 20% sodium di-3, 6-dibutyl naphthalene-1-sulfonate (CAS Reg. No. 25417-20-3); (2) a complex mixture from a boiling distillate from petroleum catalytic reformer fractionator residue that includes C9-rich C8-C10-alkyl-sodium naphthalenesulfonate (CAS Reg. No. 908356-16-1); and (3) naphthalenesulfonic acid, sodium salt, isopropylate (CAS Reg. No. 68442-09-1), which is a mixture containing sodium diisopropyl and triisopropyl-2-naphthalenesulfonates in a 40:60 ratio, with 6% of mono-isopropyl-2-naphthalenesulfonates. The existing toxicology database for the SANS inerts consists of an OPPTS Harmonized Guideline 870.3650 (combined repeated dose toxicity study with the reproduction/developmental toxicity screening studies in rats) on each of the representative SANS, and several publicly-available studies on acute toxicity. These data are adequate to apply to the SANS inerts when used as inert ingredients in pesticide formulations and to characterize the potential toxic effects of these surfactants.

The sodium alkyl naphthalenesulfonates have low acute oral and inhalation toxicity but are irritating to the skin and eye. No mutagenicity data are available. The OPPTS Harmonized Guideline 870.3650 combined repeated dose toxicity study with the reproduction/developmental toxicity screening tests on three representative surfactants demonstrate local irritation effects on the forestomach/stomach, reduced body-weight gain during mating (males), and/or decrease in thymus weight and thymus atrophy and microscopic lesions in the kidney (females) in the parental animals. No evidence of neurotoxicity was observed in any of the studies.

There was evidence of increased susceptibility to the offspring of rats following prenatal or postnatal exposure to naphthalenesulfonic acid, sodium salt, isopropylate. Increased post-implantation and postnatal losses and reduced pup body weights were observed at 120 and 288 milligrams/kilograms/day (mg/kg/day), whereas maternal toxicity was observed only at 288 mg/kg/day, as evidenced by mortality, and increase in liver enzymes and creatinine, increased kidney weight, and histopathological lesions in the kidney (tubular cell necrosis), stomach (inflammatory submucosal infiltrates and mucosal ulceration) and liver (hepatic fatty change). Based on the fact that there is a clear NOAEL for the pup effects, the point of departure is based on this endpoint (increased post-implantation and postnatal losses and reduced pup weight) and is protective of the effects seen in the study, and because of the highly conservative inputs used in both the hazard and exposure assessments, there is no residual concern for this finding.

No evidence of increased susceptibility was observed following prenatal or postnatal exposure to the other representative inerts. Following exposure to an aqueous mixture containing 3-butyl-naphthalene-1 sulfonate and sodium di-3, 6-dibutyl naphthalene-1-sulfonate, parental toxicity manifested as microscopic forestomach lesions, and developmental toxicity manifested as decreased pup body weight (↓7-8%). No other developmental effects or reproductive effects were observed, and there was no evidence of neurotoxicity in the adult animal. Following exposure to a complex mixture from a boiling distillate from petroleum catalytic reformer fractionator residue that includes C9-rich C8-C10-alkyl-sodium naphthalenesulfonate, parental toxicity manifested as decreased body-weight gain during premating (males), decreased testes weight, increased incidence of hematopoiesis in the liver (females), and an increased incidence of erosion in the glandular stomach (both sexes) at the limit dose. No developmental or reproductive effects were observed, and there was no evidence of neurotoxicity in the adult animal at the limit dose.

The SANS metabolism and elimination are contingent on both the nature of the alkyl groups and the nature and extent of naphthalene ring substituents. The Agency's August 1998 “Toxicological Review of Naphthalene (CAS Reg. No. 91-20-3)” states that the in vivo and in vitro metabolism of the parent unsubstituted naphthalene has been studied extensively in mammalian systems. Without a functional group for conjugation, it is expected that the majority of absorbed unsubstituted naphthalene is eliminated and will proceed through microsome cytochrome P-450 oxygenases to 1- and 2-napthols.

However, in the case of the CST 10 SANS surfactants, in addition to microsome cytochrome P-450 oxygenases, the 1- or 2-sulfonic acid sodium salt moieties on the naphthalene ring may provide a handle by which these compounds can be readily conjugated and eliminated.

There is no evidence that the SANS inerts are carcinogenic. The Agency used a qualitative structure activity relationship (SAR) database, DEREK Version 11, to determine if there were structural alerts. No structural alerts were identified. In addition, there was little concern that any of the postulated metabolites would have greater toxicity than the parent compounds.

Specific information on the studies received and the nature of the adverse effects caused by the SANS, as well as, the no-observed-adverse-effect-level (NOAEL) and the lowest-observed-adverse-effect-level (LOAEL) from the toxicity studies can be found at http://www.regulations.gov in document Sodium Alkyl Naphthalenesulfonate (SANS) - JITF CST 10 Inert Ingredients). Human Health Risk Assessment to Support Proposed Exemption from the Requirement of a Tolerance When Used as Inert Ingredients in Pesticide Formulations, pages 9-13 and 46-53 in docket ID number EPA-HQ-OPP-2009-0099.

B. Toxicological Endpoints

For hazards that have a threshold below which there is no appreciable risk, a toxicological point of departure (POD) is identified as the basis for derivation of reference values for risk assessment. The POD may be defined as the highest dose at which no adverse effects are observed (the NOAEL) in the toxicology study identified as appropriate for use in risk assessment. However, if a NOAEL cannot be determined, the lowest dose at which adverse effects of concern are identified (the LOAEL) or a Benchmark Dose (BMD) approach is sometimes used for risk assessment. Uncertainty/safety factors (UFs) are used in conjunction with the POD to take into account uncertainties inherent in the extrapolation from laboratory animal data to humans and in the variations in sensitivity among members of the human population as well as other unknowns. Safety is assessed for acute and chronic dietary risks by comparing aggregate food and water exposure to the pesticide to the acute population adjusted dose (aPAD) and chronic population adjusted dose (cPAD). The aPAD and cPAD are calculated by dividing the POD by all applicable UFs. Aggregate short-, intermediate-, and chronic-term risks are evaluated by comparing food, water, and residential exposure to the POD to ensure that the margin of exposure (MOE) called for by the product of all applicable UFs is not exceeded. This latter value is referred to as the Level of Concern (LOC).

For non-threshold risks, the Agency assumes that any amount of exposure will lead to some degree of risk. Thus, the Agency estimates risk in terms of the probability of an occurrence of the adverse effect greater than that expected in a lifetime. For more information on the general principles EPA uses in risk characterization and a complete description of the risk assessment process, see http://www.epa.gov/pesticides/factsheets/riskassess.htm.

A summary of the toxicological endpoints for SANS used for human health risk assessment is shown in the following Table 1.

Table 1.—Summary of Toxicological Doses and Endpoints for SANS for Use in Human Health Risk Assessment
Exposure/Scenario | Point of Departure and Uncertainty/Safety Factors | RfD, PAD, LOC for Risk Assessment | Study and Toxicological Effects
Acute dietary (all populations) | No appropriate endpoints identified for acute dietary assessment.
Chronic dietary (all populations) | NOAEL = 50 mg/kg/day UFA = 10x UFH = 10x FQPA SF = 1x | Chronic RfD = 0.5 mg/kg/day cPAD = 0.5 mg/kg/day | OPPTS Harmonized Guideline 870.3650 Combined Repeated Dose Toxicity Study with the Reproduction/Developmental Toxicity Screen in Rats LOAEL = 120 mg/kg/day, based on increased postnatal loss, reduced viability, decreased birth index
Incidental Oral, (Short- and Intermediate-Term), Dermal and Inhalation (Short, Intermediate-, and Long-term) | NOAEL = 50 mg/kg/day UFA = 10x UFH = 10x FQPA SF = 1x (5% dermal absorption; inhalation hazard assumed to be equivalent to oral hazard) | Residential LOC for MOE = 100 | OPPTS Harmonized Guideline 870.3650 Combined Repeated Dose Toxicity Study with the Reproduction/Developmental Toxicity Screen in Rats LOAEL = 120 mg/kg/day, based on increased postnatal loss, reduced viability, decreased birth index.
Cancer (oral, dermal, inhalation) | Classification: No animal toxicity data available for an assessment. Based on SAR analysis, SANS are not expected to be carcinogenic.
Point of Departure (POD) = A data point or an estimated point that is derived from observed dose-response data and used to mark the beginning of extrapolation to determine risk associated with lower environmentally relevant human exposures. NOAEL = no observed adverse effect level. LOAEL = lowest observed adverse effect level. UF = uncertainty factor. UFA = extrapolation from animal to human (interspecies). UFH = potential variation in sensitivity among members of the human population (intraspecies). PAD = population adjusted dose (a=acute, c=chronic). FQPA SF = FQPA Safety Factor. RfD = reference dose. MOE = margin of exposure. LOC = level of concern. N/A = not applicable.

C. Exposure Assessment

Very limited information is available for the sodium alkyl naphthalenesulfonates (SANS) with respect to plant and animal metabolism or environmental degradation. The Agency relied collectively on information provided on the representative chemical structures, the submitted physicochemical data, structure-activity relationship information, as well as information on other surfactants and chemicals of similar size and functionality to determine the residues of concern for these inert ingredients. Based on SAR analysis the SANS inerts are unlikely to degrade in the environment to compounds that are more toxic than the parent compounds; therefore, the parent compounds SANS are the residues of concern.

1. Dietary exposure from food and feed uses. In evaluating dietary exposure to SANS, EPA considered exposure under the petitioned-for exemptions from the requirement of a tolerance. EPA assessed dietary exposures from SANS in food as follows:

i. Acute exposure. No adverse effects attributable to a single exposure of SANS was seen in the toxicity databases. Therefore, an acute dietary risk assessment for SANS is not necessary.

ii. Chronic exposure. In conducting the chronic dietary exposure assessment, EPA used food consumption information from the U.S. Department of Agriculture (USDA) 1994-1996 and 1998 Nationwide Continuing Surveys of Food Intake by Individuals (CSFII). As to residue levels in food, no residue data were submitted for SANS. In the absence of specific residue data, EPA has developed an approach which uses surrogate information to derive upper bound exposure estimates for the subject inert ingredient. Upper bound exposure estimates are based on the highest tolerance for a given commodity from a list of high-use insecticides, herbicides, and fungicides. A complete description of the general approach taken to assess inert ingredient risks in the absence of residue data is contained in the memorandum entitled Alkyl Amines Polyalkoxylates (Cluster 4): Acute and Chronic Aggregate (Food and Drinking Water) Dietary Exposure and Risk Assessments for the Inerts (D361707, S. Piper, 2/25/09) and can be found at http://www.regulations.gov in docket ID number EPA-HQ-OPP-2008-0738.

In the dietary exposure assessment, the Agency assumed that the residue level of the inert ingredient would be no higher than the highest tolerance for a given commodity. Implicit in this assumption is that there would be similar rates of degradation (if any) between the active and inert ingredient and that the concentration of inert ingredient in the scenarios leading to these highest of tolerances would be no higher than the concentration of the active ingredient.

The Agency believes the assumptions used to estimate dietary exposures lead to an extremely conservative assessment of dietary risk due to a series of compounded conservatisms. First, assuming that the level of residue for an inert ingredient is equal to the level of residue for the active ingredient will overstate exposure. The concentrations of active ingredient in agricultural products is generally at least 50 percent of the product and often can be much higher. Further, pesticide products rarely have a single inert ingredient; rather there is generally a combination of different inert ingredients used which additionally reduces the concentration of any single inert ingredient in the pesticide product in relation to that of the active ingredient. In the case of SANS, EPA made a specific adjustment to the dietary exposure assessment to account for the use limitations of the amount of SANS that may be in formulations (no more than 30% by weight in pesticide formulations) and assumed that the SANS are present at the maximum limitations rather than at equal quantities with the active ingredient. This remains a very conservative assumption because surfactants are generally used at levels far below this percentage.

Second, the conservatism of this methodology is compounded by EPA's decision to assume that, for each commodity, the active ingredient which will serve as a guide to the potential level of inert ingredient residues is the active ingredient with the highest tolerance level. This assumption overstates residue values because it would be highly unlikely, given the high number of inert ingredients, that a single inert ingredient or class of ingredients would be present at the level of the active ingredient in the highest tolerance for every commodity. Finally, a third compounding conservatism is EPA's assumption that all foods contain the inert ingredient at the highest tolerance level. In other words, EPA assumed 100 percent of all foods are treated with the inert ingredient at the rate and manner necessary to produce the highest residue legally possible for an active ingredient. In summary, EPA chose a very conservative method for estimating what level of inert residue could be on food, then used this methodology to choose the highest possible residue that could be found on food and assumed that all food contained this residue. No consideration was given to potential degradation between harvest and consumption even though monitoring data shows that tolerance level residues are typically one to two orders of magnitude higher than actual residues in food when distributed in commerce.

Accordingly, although sufficient information to quantify actual residue levels in food is not available, the compounding of these conservative assumptions will lead to a significant exaggeration of actual exposures. EPA does not believe that this approach underestimates exposure in the absence of residue data.

iii. Cancer. The Agency used a qualitative structure activity relationship (SAR) database, DEREK11, to determine if there were structural alerts suggestive of carcinogenicity. No structural alerts for carcinogenicity were identified. SANS are not expected to be carcinogenic. Therefore, a cancer dietary exposure assessment is not necessary to assess cancer risk.

iv. Anticipated residue and percent crop treated (PCT) information. EPA did not use anticipated residue and/or PCT information in the dietary assessment for SANS. Tolerance level residues and/or 100% CT were assumed for all food commodities.

2. Dietary exposure from drinking water. The Agency used screening level water exposure models in the dietary exposure analysis and risk assessment for SANS in drinking water. These simulation models take into account data on the physical, chemical, and fate/transport characteristics of SANS. Further information regarding EPA drinking water models used in the pesticide exposure assessment can be found at http://www.epa.gov/oppefed1/models/water/index.htm.

A screening level drinking water analysis, based on the Pesticide Root Zone Model/Exposure Analysis Modeling System (PRZM/EXAMS) was performed to calculate the estimated drinking water concentrations (EDWCs) of SANS. Modeling runs on four surrogate inert ingredients using a range of physical chemical properties that would bracket those of SANS were conducted. Modeled acute drinking water values ranged from 0.001 parts per billion (ppb) to 41 ppb. Modeled chronic drinking water values ranged from 0.0002 ppb to 19 ppb. Further details of this drinking water analysis can be found at http://www.regulations.gov in the document Sodium Alkyl Naphthalenesulfonate (SANS) - JITF CST 10 Inert Ingredients. Human Health Risk Assessment to Support Proposed Exemption from the Requirement of a Tolerance When Used as Inert Ingredients in Pesticide Formulations, pages 14-15 and 56-58 in docket ID number EPA-HQ-OPP-2009-0099.

For the purpose of the screening level dietary risk assessment to support this request for an exemption from the requirement of a tolerance for SANS, a conservative drinking water concentration value of 100 ppb based on screening level modeling was used to assess the contribution to drinking water for chronic dietary risk assessments for the parent compounds and for the metabolites of concern. These values were directly entered into the dietary exposure model.

3. From non-dietary exposure. The term “residential exposure” is used in this document to refer to non-occupational, non-dietary exposure (e.g., for lawn and garden pest control, indoor pest control, termiticides, and flea and tick control on pets). SANS may be used as inert ingredients in pesticide products that are registered for specific uses that may result in both indoor and outdoor residential exposures. A screening level residential exposure and risk assessment was completed for products containing SANS as inert ingredients. In this assessment, representative scenarios based on end-use product application methods and labeled application rates were selected. The SANS may be used as inert ingredients in pesticide formulations that are used in and around the home. Additionally, uses are possible in household cleaning products. For each of the use scenarios, the Agency assessed residential handler (applicator) inhalation and dermal exposure for indoor and outdoor scenarios with high exposure potential (i.e., exposure scenarios with high end unit exposure values) to serve as a screening assessment for all potential residential pesticides containing SANS. Similarly, residential post application dermal and oral exposure assessments were also performed utilizing high end indoor and outdoor exposure scenarios. Further details of this residential exposure and risk analysis can be found at http://www.regulations.gov in the memorandum entitled JITF Inert Ingredients. Residential and Occupational Exposure Assessment Algorithms and Assumptions Appendix for the Human Health Risk Assessments to Support Proposed Exemption from the Requirement of a Tolerance When Used as Inert Ingredients in Pesticide Formulations (D364751, 5/7/09, Lloyd/LaMay in docket ID number EPA-HQ-OPP-2008-0710.

4. Cumulative effects from substances with a common mechanism of toxicity. Section 408(b)(2)(D)(v) of FFDCA requires that, when considering whether to establish, modify, or revoke a tolerance, the Agency consider “available information” concerning the cumulative effects of a particular pesticide's residues and “other substances that have a common mechanism of toxicity.”

EPA has not found the SANS to share a common mechanism of toxicity with any other substances, and the SANS do not appear to produce a toxic metabolite produced by other substances. For the purposes of this tolerance action, therefore, EPA has assumed that the SANS do not have a common mechanism of toxicity with other substances. For information regarding EPA's efforts to determine which chemicals have a common mechanism of toxicity and to evaluate the cumulative effects of such chemicals, see EPA's website at http://www.epa.gov/pesticides/cumulative.

D. Safety Factor for Infants and Children

1. In general. Section 408(b)(2)(c) of FFDCA provides that EPA shall apply an additional tenfold (10X) margin of safety for infants and children in the case of threshold effects to account for prenatal and postnatal toxicity and the completeness of the database on toxicity and exposure unless EPA determines based on reliable data that a different margin of safety will be safe for infants and children. This additional margin of safety is commonly referred to as the FQPA safety factor (SF). In applying this provision, EPA either retains the default value of 10X, or uses a different additional safety factor when reliable data available to EPA support the choice of a different factor.

2. Prenatal and postnatal sensitivity. The representative test compounds for the SANS cluster group includes:

i. An aqueous mixture containing 80% 3-butyl-naphthalene-1 sulfonate (CAS Reg. No. 25638-17-9) and 20% sodium di-3, 6-dibutyl naphthalene-1-sulfonate (CAS Reg. No. 25417-20-3);

ii. A complex mixture from a boiling distillate from petroleum catalytic reformer fractionator residue that includes C9-rich C8-C10-alkyl-sodium naphthalenesulfonate (CAS Reg. No. 908356-16-1); and

iii. Naphthalenesulfonic acid, sodium salt, isopropylate (CAS Reg. No. 68442-09-1), which is a mixture containing sodium diisopropyl and triisopropyl-2-naphthalenesulfonates in a 40:60 ratio, with 6% of mono-isopropyl-2-naphthalenesulfonates. The existing toxicology database for the SANS inerts consists of an OPPTS Harmonized Guideline 870.3650 combined repeated dose toxicity study with the reproduction/developmental toxicity screening studies in rats on each of the representative SANS.

In the case of the SANS inerts, there was no increased susceptibility to the offspring of rats following prenatal and postnatal exposure in two of the three OPPTS Harmonized Guideline 870.3650 studies. There were no developmental effects at any dose level up to the limit dose following exposure to (CAS Reg. No. 908356-16-1). In that study, maternal toxicity was manifested as mortality, an increase in liver enzymes and creatinine, increased kidney weight, and histopathological lesions in the kidney (tubular cell necrosis), stomach (inflammatory submucosal infiltrates and mucosal ulceration), and liver (hepatic fatty change) at 1,000 mg/kg/day. Following exposure to (CAS Reg. No. 25638-17-9) and (CAS Reg. No. 25417-20-3), developmental toxicity (decreased pup body weight; ↓7-8%) was observed at the same dose level where maternal/paternal toxicity was observed, as evidenced by microscopic lesions in the stomach at 540 mg/kg/day.

Developmental toxicity was observed following exposure to (CAS Reg. No. 68442-09-1) at a dose level where no significant effects were observed in the parental animals. Offspring effects included increases in post-implantation loss and postnatal loss and lower pup body weights at dose levels of 120 and 288 mg/kg/day. Parental toxicity was observed at 288 mg/kg/day, as evidenced by mortality, increased kidney weight and histopathological lesions in the kidney (tubular cell necrosis), stomach (inflammatory submucosal infiltrates and mucosal ulceration), and liver (hepatic fatty change), and increase in liver enzymes and creatinine in females. Based on the fact that there is a clear NOAEL (50 mg/kg/day), the point of departure is based on this endpoint (increased postnatal loss, decreased pup viability, reduced birth index) and is protective of the effects seen in the study, and because of the highly conservative inputs used in both the hazard and exposure assessments, there is no residual concern for this finding.

3. Conclusion. EPA has determined that reliable data show that the safety of infants and children would be adequately protected if the FQPA SF were reduced to 1X. That decision is based on the following findings:

i. The toxicity database for SANS is considered adequate for assessing the risks to infants and children (the available studies are described in unit IV.D.2.). The Agency noted changes in thymus weight and thymus atrophy. However, these were determined to be non-specific changes not indicative of immunotoxicity. In addition, no blood parameters were affected. Furthermore, these compounds do not belong to a class of chemicals that would be expected to be immunotoxic. Therefore, the Agency does not believe that an additional uncertainty factor (UFdb) for database uncertainties needs to be applied. In addition, this effect was not observed in the pups.

ii. No increased susceptibility of the offspring or reproductive toxicity was demonstrated in the OPPTS Harmonized Guideline 870.3650 reproductive/developmental toxicity studies in rats following prenatal and postnatal exposure to two of the three representative compounds (540 and 1,000 mg/kg/day). Increased susceptibility was demonstrated in the rat offspring following prenatal and postnatal exposure to one of the three representative compounds. Decreased pup body weight, increased pup mortality, and a lower viability index were observed (120 and 288 mg/kg/day) at a dose level where no parental toxicity was observed. A clear NOAEL was established for these effects, and the point of departure is based on this endpoint. Reproductive toxicity was observed following exposure to one of the representative inerts (120 and 288 mg/kg/day), as evidenced by the reduction in birth index. A clear NOAEL was established for this effect and the point of departure for risk assessment is significantly below the NOAEL for this effect. The selected point of departure for the dietary, dermal and inhalation risk assessments is protective of these offspring effects, thus there are no residual concerns.

iii. There is no indication that SANS are neurotoxic chemicals and thus there is no need for a developmental neurotoxicity study or additional UFs to account for neurotoxicity.

iv. While there is no chronic toxicity data, the Agency has concluded that an additional uncertainty factor is not needed for the use of a subchronic study for a chronic exposure assessment because the adverse effects observed in the available toxicity studies are attributable to the irritant nature of surfactants and would not be expected to increase in severity from subchronic to chronic exposure scenarios. Based on the lack of progression of severity of effects with time, along with the considerable similarities of effects across the species tested, the observation that the vast majority of the effects observed are related to local irritation and corrosive effects, and the highly conservative nature of the exposure assessment, EPA concludes that an additional UF for extrapolation from subchronic toxicity study to a chronic exposure scenario is not needed.

v. There are no residual uncertainties identified in the exposure databases. The food and drinking water assessment is not likely to underestimate exposure to any subpopulation, including those comprised of infants and children. The food exposure assessments are considered to be highly conservative as they are based on the use of the highest tolerance level from the surrogate pesticides for every food and 100% crop treated is assumed for all crops. EPA also made conservative (protective) assumptions in the ground and surface water modeling used to assess exposure to SANS in drinking water. EPA used similarly conservative assumptions to assess post-application exposure of children as well as incidental oral exposure of toddlers. These assessments will not underestimate the exposure and risks posed by SANS.

E. Aggregate Risks and Determination of Safety

EPA determines whether acute and chronic pesticide exposures are safe by comparing aggregate exposure estimates to the aPAD and cPAD. The aPAD and cPAD represent the highest safe exposures, taking into account all appropriate SFs. EPA calculates the aPAD and cPAD by dividing the POD by all applicable UFs. For linear cancer risks, EPA calculates the probability of additional cancer cases given the estimated aggregate exposure. Short-, intermediate-, and chronic-term risks are evaluated by comparing the estimated aggregate food, water, and residential exposure to the POD to ensure that the MOE called for by the product of all applicable UFs is not exceeded.

1. Acute risk.There was no hazard attributable to a single exposure seen in the toxicity database for SANS. Therefore, the SANS are not expected to pose an acute risk.

2. Chronic risk. A chronic aggregate risk assessment takes into account exposure estimates from chronic dietary consumption of food and drinking water. Using the exposure assumptions discussed in this unit for chronic exposure, and the use limitations of not more than 30% by weight in pesticide formulations, the chronic dietary exposure from food and water to SANS is 23% of the cPAD for the U.S. population and 75% of the cPAD for children 1 to 2 years old, the most highly exposed population subgroup.

3. Short-term risk. Short-term aggregate exposure takes into account short-term residential exposure plus chronic exposure to food and water (considered to be a background exposure level).

SANS are used as inert ingredients in pesticide products that are currently registered for uses that could result in short-term residential exposure and the Agency has determined that it is appropriate to aggregate chronic exposure through food and water with short-term residential exposures to SANS. Using the exposure assumptions described in this unit, EPA has concluded that the combined short-term food, water, and residential exposures aggregated result in aggregate MOEs of 120 for both adult males and females, respectively. Adult residential exposure combines high end dermal and inhalation handler exposure with a high end post application dermal exposure. EPA has concluded that the combined short-term aggregated food, water, and residential exposures result in an aggregate MOE of 120 for children. Children's residential exposure combines dermal and hand-to-mouth exposures. As the level of concern is for MOEs that are lower than 100, these MOEs are not of concern.

4. Intermediate-term risk. Intermediate-term aggregate exposure takes into account intermediate-term residential exposure plus chronic exposure to food and water (considered to be a background exposure level).

SANS are currently registered for uses that could result in intermediate-term residential exposure and the Agency has determined that it is appropriate to aggregate chronic exposure through food and water with intermediate-term residential exposures to SANS. Using the exposure assumptions described in this unit, EPA has concluded that the combined intermediate-term aggregated food, water, and residential exposures result in aggregate MOEs of 520 for both adult males and females, respectively. Adult residential exposure includes high end post application dermal exposures. EPA has concluded that the combined intermediate-term aggregated food, water, and residential exposures result in an aggregate MOE of 130 for children. Children's residential exposure combines dermal and hand-to-mouth exposures. As the level of concern is for MOEs that are lower than 100, these MOEs are not of concern.

5. Aggregate cancer risk for U.S. population. The Agency has not identified any concerns for carcinogenicity relating to SANS.

6. Determination of safety. Based on these risk assessments, EPA concludes that there is a reasonable certainty that no harm will result to the general population, or to infants and children from aggregate exposure to residues of SANS.

V. Other Considerations

A. Analytical Enforcement Methodology

An analytical method is not required for enforcement purposes since the Agency is establishing an exemption from the requirement of a tolerance without any numerical limitation.

B. International Residue Limits

The Agency is not aware of any country requiring a tolerance for SANS nor have any CODEX Maximum Residue Levels been established for any food crops at this time.

VI. Conclusion

Therefore, an exemption from the requirement of a tolerance is established for residues of sodium alkyl naphthalenesulfonates when used as inert ingredients applied to crops pre-harvest and post-harvest, and to animals at a maximum of 30% by weight in pesticide formulations.

VII. Statutory and Executive Order Reviews

This final rule establishes an exemption from the requirement of tolerances under section 408(d) of FFDCA in response to a petition submitted to the Agency. The Office of Management and Budget (OMB) has exempted these types of actions from review under Executive Order 12866, entitled Regulatory Planning and Review (58 FR 51735, October 4, 1993). Because this final rule has been exempted from review under Executive Order 12866, this final rule is not subject to Executive Order 13211, entitled Actions Concerning Regulations That Significantly Affect Energy Supply, Distribution, or Use (66 FR 28355, May 22, 2001) or Executive Order 13045, entitled Protection of Children from Environmental Health Risks and Safety Risks (62 FR 19885, April 23, 1997). This final rule does not contain any information collections subject to OMB approval under the Paperwork Reduction Act (PRA), 44 U.S.C. 3501 et seq., nor does it require any special considerations under Executive Order 12898, entitled Federal Actions to Address Environmental Justice in Minority Populations and Low-Income Populations (59 FR 7629, February 16, 1994).

Since tolerances and exemptions that are established on the basis of a petition under section 408(d) of FFDCA, such as the exemptions in this final rule, do not require the issuance of a proposed rule, the requirements of the Regulatory Flexibility Act (RFA) (5 U.S.C. 601 et seq.) do not apply.

This final rule directly regulates growers, food processors, food handlers, and food retailers, not States or tribes, nor does this action alter the relationships or distribution of power and responsibilities established by Congress in the preemption provisions of section 408(n)(4) of FFDCA. As such, the Agency has determined that this action will not have a substantial direct effect on States or tribal governments, on the relationship between the national government and the States or tribal governments, or on the distribution of power and responsibilities among the various levels of government or between the Federal Government and Indian tribes. Thus, the Agency has determined that Executive Order 13132, entitled Federalism (64 FR 43255, August 10, 1999) and Executive Order 13175, entitled Consultation and Coordination with Indian Tribal Governments (65 FR 67249, November 9, 2000) do not apply to this final rule. In addition, this final rule does not impose any enforceable duty or contain any unfunded mandate as described under Title II of the Unfunded Mandates Reform Act of 1995 (UMRA) (Public Law 104-4).

This action does not involve any technical standards that would require Agency consideration of voluntary consensus standards pursuant to section 12(d) of the National Technology Transfer and Advancement Act of 1995 (NTTAA), Public Law 104-113, section 12(d) (15 U.S.C. 272 note).

VIII. Congressional Review Act

The Congressional Review Act, 5 U.S.C. 801 et seq., generally provides that before a rule may take effect, the agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: July 29, 2009.
Lois Rossi,
Director, Registration Division, Office of Pesticide Programs.

Therefore, 40 CFR chapter I is amended as follows:

PART 180—[AMENDED]

1. The authority citation for part 180 continues to read as follows:

Authority: 21 U.S.C. 321(q), 346a and 371.

2. In § 180.910, the table is amended by adding alphabetically the following inert ingredients to read as follows:

§ 180.910 Inert ingredients used pre- and post-harvest; exemptions from the requirement of a tolerance.

* * * * *

Inert Ingredients | Limits | Uses
* * * * * * *
Sodium alkyl naphthalenesulfonates (CAS Reg. Nos. 68909-83-1, 68909-84-2, 68909-82-0, 27213-90-7, 26264-58-4, 27178-87-6, 111163-74-7, 908356-16-1, 25417-20-3, 25638-17-9, 145578-88-7, 1322-93-6, 1323-19-9, 7403-47-6, 68442-09-1, 127646-44-0, 908356-18-3) | Limited to no more than 30% by weight in pesticide end-use products | Surfactants, related adjuvants of surfactants
* * * * * * *

4. In § 180.930, the table is amended by adding alphabetically the following inert ingredients to read as follows:

§ 180.930 Inert ingredients applied to animals; exemptions from the requirement of a tolerance.

* * * * *

Inert Ingredients | Limits | Uses
* * * * * * *
Sodium alkyl naphthalenesulfonates (CAS Reg. Nos. 68909-83-1, 68909-84-2, 68909-82-0, 27213-90-7, 26264-58-4, 27178-87-6, 111163-74-7, 908356-16-1, 25417-20-3, 25638-17-9, 145578-88-7, 1322-93-6, 1323-19-9, 7403-47-6, 68442-09-1, 127646-44-0, 908356-18-3) | Limited to no more than 30% by weight in pesticide end-use products | Surfactants, related adjuvants of surfactants
* * * * * * *

[FR Doc. E9-18702 Filed 8-4-09; 8:45 am]

BILLING CODE 6560-50-S